ENVIRONMENTAL PROTECTION AGENCY

40 CFR Part 52

[EPA-R02-OAR-2019-0674; FRL-10004-37-Region 2]

Approval and Promulgation of Implementation Plans; New Jersey; Negative Declaration

AGENCY: Environmental Protection Agency (EPA).

ACTION: Proposed rule.

SUMMARY: The Environmental Protection Agency (EPA) is proposing to approve a State Implementation Plan (SIP) revision submitted by the State of New Jersey for purposes of making a negative declaration regarding the October 2016 Oil and Natural Gas Control Techniques Guidelines (2016 Oil and Gas CTG). This action is being taken in accordance with the requirements of the Clean Air Act.

DATES: Written comments must be received on or before February 21, 2020.

ADDRESSES: Submit your comments, identified by Docket ID Number EPA-R02-OAR-2019-0674 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Omar Hammad, Environmental Protection Agency, Region 2 Office, 290 Broadway, New York, New York 10007-1866, at (212) 637-3347, or by email at hammad.omar@epa.gov.

SUPPLEMENTARY INFORMATION: The Supplementary Information section is arranged as follows:

Table of Contents

I. What action is the EPA proposing?

II. What is the background for this proposed rulemaking?

III. What did New Jersey submit?

IV. What is the EPA's evaluation of New Jersey's SIP submittal?

V. Statutory and Executive Order Reviews

I. What action is the EPA proposing?

The EPA is proposing to approve a revision to the State Implementation Plan (SIP) submitted by the State of New Jersey on May 13, 2019, for purposes of making a negative declaration that no sources exist in the State of New Jersey that would be subject to the 2016 Oil and Gas CTG.

II. What is the background for this proposed rulemaking?

On October 27, 2016, EPA published in the Federal Register the “Release of Final Control Techniques Guidelines for the Oil and Natural Gas Industry.” See 81 FR 74798. The CTG provided information to state, local, and tribal air agencies to assist them in determining reasonably available control technology (RACT) for volatile organic compounds (VOC) emissions from select oil and natural gas industry emission sources. Clean Air Act (CAA) section 182(b)(2)(A) requires that for ozone nonattainment areas classified as Moderate, states must revise their SIPs to include provisions to implement RACT for each category of VOC sources covered by a CTG document issued between November 15, 1990, and the date of attainment. CAA section 184(b)(1)(B) extends this requirement to states in the Ozone Transport Region (OTR). States are required to adopt RACT controls that are at least as stringent as those found within the CTG.

III. What did New Jersey submit?

On May 13, 2019, the New Jersey Department of Environmental Protection (NJDEP) submitted to the EPA a SIP revision consisting of a negative declaration for the 2016 Oil and Gas CTG.

The oil and natural gas industry includes oil and natural gas operations involved in the extraction and production of crude oil and natural gas, as well as the processing, transmission, storage, and distribution of natural gas. For oil, the industry includes all operations from the well to the point of custody transfer at a petroleum refinery. For natural gas, the industry includes all operations from the well to the customer.

The NJDEP cross referenced the source operations covered in the 2016 Oil and Gas CTG and its applicability to New Jersey. Its findings are in the table below.

Table 1—New Jersey's Evaluation of the Source Operations Covered in the 2016 Oil and Gas CTG and Its Applicability to New Jersey
Source operations covered in the 2016 Oil and Gas CTG | Applicability | Confirmation no source operations in NJ
Storage Vessels (CTG Section 4.0) | Crude oil, condensate, intermediate hydrocarbon liquids, and produced water storage in all segments (except distribution) of the oil and gas industry | Only distribution of oil in the state; CTG specifically excludes storage of crude oil at refineries.
Compressors (CTG Section 5.0) | Centrifugal and reciprocating compressors located between the wellhead and point of custody transfer to the natural gas transmission and storage | No natural gas extraction occurs in state; only natural gas transmission and storage after natural gas has entered state through pipeline.
Pneumatic Controller (CTG Section 6.0) | Controllers located from wellhead to a natural gas processing plant or from wellhead to point of custody transfer to an oil pipeline | No natural gas or oil extraction occurs in state; and no natural gas processing plant operates in state.
Pneumatic Pumps (CTG Section 7.0) | Pumps located at natural gas processing plants and well sites | No natural gas extraction occurs in state; and no natural gas processing plant operates in state.
Equipment Leaks (CTG Section 8.0) | All equipment (except compressors and sampling connection systems) within a process unit located at a natural gas processing plant in VOC service or in wet gas service | No natural gas processing plant operates in state; and no wet gas service.
Fugitive Emissions (CTG Section 9.0) | Collection of fugitive emission components at a well site and gathering and boosting station, that is located from the wellhead to the point of custody transfer to the natural gas transmission and storage segment or to an oil pipeline | No natural gas extraction occurs in state; only natural gas transmission and storage after natural gas has entered state through pipeline.

Through this negative declaration, New Jersey is asserting that there are no sources within its respective State that would be subject to the 2016 Oil and Gas CTG. New Jersey asserts that it is not anticipated that crude oil or natural gas extraction will be occurring in New Jersey for the foreseeable future.

IV. What is the EPA's evaluation of New Jersey's SIP submittal?

On May 13, 2019, New Jersey submitted a SIP revision to make a negative declaration and address the 2016 Oil and Gas CTG requirements within the State. The EPA has reviewed New Jersey's submittal and agrees with the State's evaluation. The EPA compared the State's evaluation with their inventory and is concurring with their negative declaration. The EPA is proposing to approve the revision to the SIP submitted by the State to address the 2016 Oil and Gas CTG for the OTR and nonattainment RACT requirements for both the 2008 and 2015 ozone National Ambient Air Quality Standards and is approving their negative declaration that no sources exist in the State of New Jersey that would be subject to the 2016 Oil and Gas CTG.

The EPA is soliciting public comments on the issues discussed in this proposal. These comments will be considered before the EPA takes final action. Interested parties may participate in the Federal rulemaking procedure by submitting written comments as discussed in the ADDRESSES section of this rulemaking.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993), and 13563 (76 FR 382, January 21, 2011);

• Is not an Executive Order 13771 (82 FR 9339, February 2, 2017) regulatory action because SIP approvals are exempt under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rulemaking action, pertaining to New Jersey's Negative Declaration SIP submission, would not be approved to apply on any Indian reservation land or in any other area where EPA or an Indian tribe has demonstrated that a tribe has jurisdiction. In those areas of Indian country, the rule does not have tribal implications and will not impose any substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: January 2, 2020.
Peter D. Lopez,
Regional Administrator, Region 2.

[FR Doc. 2020-00778 Filed 1-21-20; 8:45 am]

BILLING CODE 6560-50-P